DEPARTMENT OF ENERGY

Federal Energy Regulatory Commission

[Project No. 15249-002]

Lewis Ridge Pumped Storage, LLC; Notice of Application Ready for Environmental Analysis and Soliciting Comments, Recommendations, Terms and Conditions, and Prescriptions

Take notice that the following hydroelectric application has been filed with the Commission and is available for public inspection.

a. Type of Application: Original Major License.

b. Project No.: 15249-002.

c. Date Filed: June 13, 2025.

d. Applicant: Lewis Ridge Pumped Storage, LLC (Lewis Ridge LLC).

e. Name of Project: Lewis Ridge Pumped Storage Project (Lewis Ridge Project).

f. Location: The Lewis Ridge Project is located near the towns of Blackmont, Tejay, Balkan, and Callaway, in Bell County, Kentucky.

g. Filed Pursuant to: Federal Power Act 16 U.S.C. 791 (a)-825 (r).

h. Applicant Contact: Sandy Slayton, Rye Development, 1455 SW Broadway Street, Suite 290, Portland, Oregon 97201; (503) 341-1425; email: sandy@ryedevelopment.com.

i. FERC Contact: Sarah Salazar at (202) 502-6863, or email at sarah.salazar@ferc.gov.

j. Deadline for filing comments, recommendations, terms and conditions, and prescriptions: on or before 5:00 p.m. Eastern Time on April 3, 2026; reply comments are due on or before 5:00 p.m. Eastern Time on May 18, 2026.

The Commission strongly encourages electronic filing. Please file comments, recommendations, terms and conditions, and prescriptions using the Commission's eFiling system at https://ferconline.ferc.gov/FERCOnline.aspx. Commenters can submit brief comments up to 10,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Lewis Ridge Pumped Storage Project (P-15249-002).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is ready for environmental analysis at this time.

l. Project Description: The proposed project boundary would enclose about 148 acres of privately owned land, primarily owned by Asher Land and Mineral, LLLP, on which it used previously for surface and underground coal mining. About 16 additional parcels of privately owned property would be included in the project boundary, primarily along the transmission line and water intake conduit extending from the Cumberland River to the lower reservoir. These lands are identified in Exhibit G of the license application (Project Boundary Drawing).

The proposed Lewis Ridge Project would consist of a 48.2-acre upper reservoir created by an 8,241-foot-long, 50-foot-high rocky earth-fill dam with an integrated emergency overflow spillway passing flows to the Pound Mill Branch and into Puckett Creek. The upper reservoir would have an active storage of about 2,602 acre-feet between normal maximum elevation 2,150 feet and normal minimum elevation 2,076 feet.¹ An intake in the upper reservoir would pass flows to a 3,134-foot-long, 16-foot-diameter above-ground penstock. The penstock would connect to a powerhouse located 267 feet below ground, containing two 154-megawatt (MW) reversible pump-turbines with a total rated capacity of 308 MW. Flows from the powerhouse would pass through two 249-foot-long, 12-foot-diameter draft tubes to a 110-foot-long water intake located at the lower reservoir. The 51.6-acre lower reservoir would be created by a 1,120-foot-long, 138-foot-high earth-fill dam and have an integrated emergency overflow spillway passing flows to the Cumberland River. The lower reservoir would have a gross storage of 3,486 acre-feet and active storage of about 2,602 acre-feet, between a normal maximum elevation 1,134 feet and normal minimum elevation 1,034 feet.

¹ Elevations are based on the North American Vertical Datum of 1988 (NAVD 88).

A permanent intake would be located on the Cumberland River to provide initial fill flows and maintenance flows. The intake would consist of 6 screened inlets which connect to a removable/mobile pumping station. Flows from the pumping station would pass through three parallel 4,724-foot-long, 24-inch-diameter buried pipelines which would direct flows to a stilling basin at the lower reservoir.

Lewis Ridge LLC would develop about 7.1 miles of permanent roads for project access and maintenance, and 4 miles of temporary roads for construction. Lewis Ridge LLC would use two disposal sites to deposit excess spoil material (excavated soil and rocks). After construction is completed, these sites would be seeded and revegetated.

The project would include a 2.5-mile-long, 161-kilovolt overhead transmission line and two switching stations, connecting the project powerhouse to the grid at the existing Pineville-Harlan #1 transmission line. Under normal operation, the project would have the capacity to produce about 717,000 megawatt hours (MWh) of peak energy annually.

The Lewis Ridge Pumped Storage Project would use flows from the Cumberland River and Tom Fork River for the initial fill and periodic recharge of the reservoirs. The project would require about 2,808 acre-feet of water for the initial fill and 149 acre-feet annually to replace water that would be lost to evaporation and seepage. All flows in the Tom Fork River above 2.8 cubic feet per second (cfs) would be available for initial fill and maintenance flows. About 10% of the mean monthly flow in the Cumberland River would be used for initial fill and to supplement Tom Fork River flows for maintenance when needed.

The lower reservoir would inundate part of the 1.8-mile-long Tom Fork River. The lower reservoir dam would include a low-level outlet, which would be used for emergency releases, as well as providing approximately 2.8 cfs (the estimated mean annual flow) to the lower section of the Tom Fork River.

The proposed project would pump water from the lower reservoir to the upper reservoir during periods of low electrical demand (i.e., off-peak energy) and generate energy by passing the water from the upper to the lower reservoir through the generating units during periods of high electrical demand (i.e., peak energy). Water surface elevations in the upper reservoir would fluctuate about 74 feet under normal operation. The water surface elevation in the lower reservoir would fluctuate 100 feet. The project would produce 266 MW of energy for an 8-hour generation cycle and take 8.8 hours to return water from the lower reservoir to the upper reservoir. The return cycle would require 340 MW of power.

Under an original license, in addition to constructing, operating, and maintaining the project as described above, Lewis Ridge LLC would implement the following measures: (1) additional geo-technical analyses; (2) an Erosion and Sediment Control Plan; (3) a Water Quality Monitoring Plan; (4) a Stormwater Pollution Prevention Plan; (5) a Hazardous Substances Spill Prevention and Cleanup Plan; (6) a Groundwater Protection Plan; (7) fish exclusion measures; (8) a mussel relocation program; (9) a Wildlife Management Plan; (10) a Vegetation Management Plan; and (11) a Historic Properties Management Plan.

m. A copy of the application is available for review via the internet through the Commission's Home Page (http://www.ferc.gov), using the “eLibrary” link. Enter the docket number, excluding the last three digits in the docket number field, to access the document (P-15249). For assistance, contact FERC Online Support.

All filings must (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions, or prescriptions must set forth their evidentiary basis and otherwise comply with the requirements of 18 CFR 4.34(b). Agencies may obtain copies of the application directly from the applicants. Each filing must be accompanied by proof of service on all persons listed on the service list prepared by the Commission in this proceeding, in accordance with 18 CFR 4.34(b) and 385.2010.

For public inquiries and assistance with making filings such as interventions, comments, or requests for rehearing, contact the Office of Public Participation at (202) 502-6595, or OPP@ferc.gov.

You may also register online at https://ferconline.ferc.gov/FERCOnline.aspx to be notified via email of new filings and issuances related to this or other pending projects. For assistance, contact FERC Online Support.

n. The license applicant must file the following on or before 5:00 p.m. Eastern Time April 3, 2026: (1) a copy of the water quality certification; (2) a copy of the request for certification, including proof of the date on which the certifying agency received the request; or (3) evidence of waiver of water quality certification.

o. Final amendments to the application must be filed with the Commission on or before 5:00 p.m. Eastern Time on March 4, 2026.

(Authority: 18 CFR 2.1)

Dated: February 2, 2026.
Debbie-Anne A. Reese,
Secretary.

[FR Doc. 2026-02358 Filed 2-5-26; 8:45 am]

BILLING CODE 6717-01-P